DEPARTMENT OF AGRICULTURE

Rural Business-Cooperative Service

Notice Inviting Applications for Biomass Research and Development; Correction

AGENCY: Rural Business-Cooperative Service, USDA.

ACTION: Notice; correction.

SUMMARY: The U.S. Department of Agriculture (USDA) published a document in the Federal Register of Monday, June 11, 2007, concerning the joint solicitation of applications for USDA and the Department of Energy (DOE) for financial assistance addressing research and development of biomass based products, bioenergy, biofuels, and related products. This document contained information regarding the grant amount in USDA funding.

FOR FURTHER INFORMATION CONTACT: Lisa Siesennop, Business Programs, Loan and Grant Analyst, USDA Rural Development, STOP 3225, Room 6870, 1400 Independence Avenue, SW., Washington, DC 20250-3225. Telephone: (202) 690-3810, Fax: (202) 720-6561.

Correction

In the Federal Register of June 11, 2007, FR Doc. 07-2865, on page 32060, in the first column, under Grant Amounts, correct the first sentence to read: Up to $4 million in DOE funding and up to $14 million in USDA funding is available for new awards under this Solicitation.

Dated: July 16, 2007.
Ben Anderson,
Acting Administrator,Rural Business-Cooperative Service.

[FR Doc. E7-14383 Filed 7-24-07; 8:45 am]

BILLING CODE 3410-XY-P